DEPARTMENT OF TRANSPORTATION

Federal Motor Carrier Safety Administration

[Docket No. FMCSA 2000-7365]

Public Meeting on the Commercial Drivers License Program in Illinois

AGENCY: Federal Motor Carrier Safety Administration (FMCSA), DOT.

ACTION: Notice of public meeting.

SUMMARY: The FMCSA is announcing a public meeting for interested persons to present comments and views on the Commercial Drivers License (CDL) program in Illinois. This action is necessary to inform the public about the date, time, and structure of the meeting. The FMCSA hopes to hear from the public any concerns they may have about the State's CDL program, CDL issuance practices, driver testing (including third party testing), literacy and translation requirements. The public meeting will be recorded and a summary of the proceedings placed in the docket number provided in the heading of this document.

DATES: The meeting will be held on Tuesday June 6, 2000, beginning at 9 a.m. and ending at 4:30 p.m., with a break from Noon to 1:30 p.m.

ADDRESSES: The meeting will be held at the Ramada Plaza Hotel (O'Hare), 6600 N. Mannheim Road, Rosemont, Illinois 60018, telephone (847) 827-5131. The location is easily accessible from all major expressways. The hotel is approximately one mile from I-190 Mannheim Road (North exit). It can also be reached by the CTA Blue Line to O'Hare Airport.

FOR FURTHER INFORMATION CONTACT: To request general information about the meeting: Mrs. Rose Ropke at (708) 283-3518. FMCSA Headquarters contact: Mr. Larry Slade at (202) 366-5721.

SUPPLEMENTARY INFORMATION:

Electronic Access

Internet users may access all comments received by the U.S. DOT Dockets, Room PL-401, by using the universal resource locator (URL): http://dms.dot.gov. It is available 24 hours each day, 365 days each year. Please follow the instructions online for more information and help.

An electronic copy of this document may be downloaded by using a computer, modem and suitable communications software from the Government Printing Office's Electronic Bulletin Board Service at (202)512-1661. Internet users may reach the Office of the Federal Register's home page at: http://www.nara.gov/fedreg and the Government Printing Office's web page at: http://www.access.gpo.gov/nara.

Internet users may also find this document on the FMCSA web site at http://www.fmcsa.dot.gov/rulesregs/fmcsr/rulemakings.htm.

Background

Structure of Public Meeting

At 9 a.m. there will be opening remarks by the Panel Chair. Following the opening remarks, the first presenter will be called to the podium. There will be a break from Noon to 1:30 p.m. The afternoon session will close at 4:30 p.m. Speakers must limit their oral presentations to no more than 10 minutes duration. Presenters may submit additional written documentation to the public docket.

Participants

All persons who would like to present comments must preregister for the meeting. Preregistration can be done by submitting name, address, phone number, home or business address either by electronic mail (CDLMTG@fhwa.dot.gov), facsimile at (708) 283-3579 or by telephone at (708) 283-3518. Those who would like to present comments must preregister and indicate their desire to do so. Preregistration must be submitted by 4 p.m., e.t., no later than June 1, 2000.

All persons will be required to sign in at the reception table. At the reception table please be prepared to give your name, title, company or home address and phone number. Persons failing to satisfy requirements will forfeit their opportunity to participate in the meeting. Such persons may, however, submit their written comments by the close of business on June 13, 2000, to the Docket Clerk, U.S. DOT Docket, Room PL-401, 400 Seventh Street, SW., Washington, DC 20590-0001. To the extent possible, the docket comments received after the deadline date will be considered for inclusion in the final panel report.

Authority: 49 U.S.C. 322, 31502, and 31136; and 49 CFR 1.73.

Issued on: May 16, 2000.
Brian M. McLaughlin,
Director, Office of Policy Plans and Regulations.

[FR Doc. 00-12737 Filed 5-19-00; 8:45 am]

BILLING CODE 4910-22-P